DEPARTMENT OF JUSTICE

Antitrust Division

Notice Pursuant to the National Cooperative Research and Production Act of 1993—Cooperative Research Group on Corrosion Under Insulation

Notice is hereby given that, on March 22, 2018, pursuant to Section 6(a) of the National Cooperative Research and Production Act of 1993, 15 U.S.C. 4301 et seq. (“the Act”), Southwest Research Institute—Cooperative Research Group on Cooperative Research Group on Corrosion Under Insulation (“CUI-JIP”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identity of the parties to the venture are: Air Products and Chemicals, Inc., Allentown, PA; Armacell Engineered Systems Ltd, Hammersmith, London, UK; Aspen Aerogels, Inc., Northborough, MA; BP American Production Company, Inc., Houston, TX; Carboline Company, St. Louis, MO; Chevron U.S.A. Inc., Richmond, CA; ExxonMobil Production Company, Spring, TX; Industrial Insulation Group LLC, Denver, CO; International Paint, Ltd., Gateshead, Slough, UK; Jotun A/S, Sandefjor, NORWAY; PPG Industries, Inc., Pittsburgh, PA; Promat, Inc., Maryville, TN; Roxul, Inc., The Woodlands, TX; Statoil Petroleum AS, Stavanger, NORWAY; Tenaris Connections B.V., Amsterdam, THE NETHERLANDS; and The Sherwin-Williams Company, Cleveland, OH.

The general area of CUI-JIP's planned activity is to determine the durability of various CUI coating types using a refined cost-effective CUI test method with the purpose of obtaining an accurate coating performance evaluation under various insulation materials at two distinct proposed temperature regimes. This program will also provide high quality data to support the development of new coatings and insulations pertaining to mitigation of CUI and help make/revise recommendations for coating/insulation selection, define acceptance criteria and safe integrity operating window or risk-based assessment for components that are exposed to aggressive environments.

Patricia A. Brink,
Director of Civil Enforcement, Antitrust Division.

[FR Doc. 2018-08440 Filed 4-23-18; 8:45 am]

BILLING CODE 4410-11-P